NATIONAL SCIENCE FOUNDATION

Public Availability of the National Science Foundation FY 2013 Service Contract Inventory and Associated Documents

AGENCY: National Science Foundation.

ACTION: Notice of Public Availability of FY 2013 Service Contract Inventories and Associated Documents.

SUMMARY: In accordance with Section 743 of Division C of the Consolidated Appropriations Act of 2010 (Pub. L. 111-117), the National Science Foundation is publishing this notice to advise the public of the availability of (1) the FY 2013 Service Contract Inventory, (2) Analysis Report of the 2012 Service Contract Inventory and (3) the Plan for Analyzing the 2013 Service Contract Inventory. This inventory provides information on service contract actions over $25,000 that were made in FY 2013. The information is organized by function to show how contracted resources are distributed throughout the agency. The inventory has been developed in accordance with guidance issued on November 5, 2010, and December 19, 2011, by the Office of Management and Budget's Office of Federal Procurement Policy (OFPP). OFPP's guidance is available at http://www.whitehouse.gov/sites/default/files/omb/procurement/memo/service-contract-inventories-guidance-11052010.pdf and http://www.whitehouse.gov/sites/default/files/omb/procurement/memo/service-contract-inventory-guidance.pdf. The National Science Foundation has posted its (1) FY 2013 inventory and a summary of the inventory, (2) FY 2012 inventory analysis report, and (3) FY 2013 inventory planned analysis report on the National Science Foundation homepage at the following links: http://www.nsf.gov/publications/pub_summ.jsp?ods_key=nsf14042; http://www.nsf.gov/publications/pub_summ.jsp?ods_key=nsf14050 ; http://www.nsf.gov/publications/pub_summ.jsp?ods_key=nsf14051.

FOR FURTHER INFORMATION CONTACT: Questions regarding the service contract inventory should be directed to Richard Pihl in the BFA/DACS at 703-292-7395 or rpihl@nsf.gov.

Dated: March 19, 2014.
Suzanne Plimpton,
Reports Clearance Officer, National Science Foundation.

[FR Doc. 2014-06430 Filed 3-24-14; 8:45 am]

BILLING CODE 7555-01-P